INTERNATIONAL TRADE COMMISSION

[Investigation No. 337-TA-856]

Certain Wireless Communication Devices, Portable Music and Data Processing Devices, Computers, and Components Thereof; Institution of Investigation Pursuant to 19 U.S.C. 1337

AGENCY: U.S. International Trade Commission.

ACTION: Notice.

SUMMARY: Notice is hereby given that a complaint was filed with the U.S. International Trade Commission on August 17, 2012, under section 337 of the Tariff Act of 1930, as amended, 19 U.S.C. 1337, on behalf of Motorola Mobility LLC of Libertyville, Illinois; Motorola Mobility Ireland of Bermuda; and Motorola Mobility International Limited of Bermuda. A letter supplementing the complaint was filed on September 6, 2012. The complaint alleges violations of section 337 based upon the importation into the United States, the sale for importation, and the sale within the United States after importation of certain wireless communication devices, portable music and data processing devices, computers, and components thereof by reason of infringement of certain claims of U.S. Patent No. 5,883,580 (“the '580 patent”); U.S. Patent No. 5,922,047 (“the '047 patent”); U.S. Patent No. 6,425,002 (“the '002 patent”); U.S. Patent No. 6,493,673 (“the '673 patent”); U.S. Patent No. 6,983,370 (“the '370 patent”); U.S. Patent No. 7,007,064 (“the '064 patent”); and U.S. Patent No. 7,383,983 (“the '983 patent”). The complaint further alleges that an industry in the United States exists as required by subsection (a)(2) of section 337.

The complainants request that the Commission institute an investigation and, after the investigation, issue an exclusion order and a cease and desist order.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on September 14, 2012, ordered that—

(1) Pursuant to subsection (b) of section 337 of the Tariff Act of 1930, as amended, an investigation be instituted to determine whether there is a violation of subsection (a)(1)(B) of section 337 in the importation into the United States, the sale for importation, or the sale within the United States after importation of certain wireless communication devices, portable music and data processing devices, computers, and components thereof that infringe one or more of claims 1-3, 10-11, 13, and 15 of the '580 patent; claims 17 and 18 of the '047 patent; claims 1, 5, 6, and 11 of the '002 patent; claims 1, 9-11, and 50 of the '673 patent; claims 50-52 and 54 of the '370 patent; claims 1, 2, 5-7, and 9-13 of the '064 patent; and claims 1-4, 9, 12-14, 25-26, 31, 33-35, 37, 39, and 40 of the '983 patent, and whether an industry in the United States exists as required by subsection (a)(2) of section 337;

(2) For the purpose of the investigation so instituted, the following are hereby named as parties upon which this notice of investigation shall be served:

(a) The complainants are:

Motorola Mobility LLC, 600 North US Highway 45, Libertyville, IL 60048;

Motorola Mobility Ireland, Clarendon House, 2 Church Street, Hamilton HMCX, Bermuda;

Motorola Mobility International Limited, Clarendon House, 2 Church Street, Hamilton, HM11, Bermuda.

(b) The respondent is the following entity alleged to be in violation of section 337, and is the party upon which the complaint is to be served:

Apple Inc., 1 Infinite Loop, Cupertino, CA 95014.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondent in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 18, 2012.
Lisa R. Barton,
Acting Secretary to the Commission.

[FR Doc. 2012-23328 Filed 9-20-12; 8:45 am]

BILLING CODE 7020-02-P